DEPARTMENT OF TRANSPORTATION

Federal Aviation Administration

14 CFR Part 95

[Docket No. 31273; Amdt. No. 548]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

EFFECTIVE DATE: 0901 UTC, October 10, 2019.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg 29 Room 104, Oklahoma City, OK 73125. Telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC on September 6, 2019.
Rick Domingo,
Executive Director, Flight Standards Service.

Adoption of the Amendment

Accordingly, pursuant to the authority delegated to me by the Administrator, part 95 of the Federal Aviation Regulations (14 CFR part 95) is amended as follows effective at 0901 UTC, October 10, 2019.

1. The authority citation for part 95 continues to read as follows:

Authority: 49 U.S.C. 106(g), 40103, 40106, 40113, 40114, 40120, 44502, 44514, 44719, 44721.

2. Part 95 is amended to read as follows:

Revisions to IFR Altitudes & Changeover Point
[Amendment 548 effective date October 10, 2019]
From | To | MEA | MAA
§ 95.3000 Low Altitude RNAV Routes
§ 95.3331 RNAV Route T331 Is Amended by Adding
FRAME, CA FIX | NTELL, CA WP | 2000 | 17500
§ 95.4000 High Altitude RNAV Routes
§ 95.4106 RNAV Route Q106 Is Amended To Delete
SMELZ, FL WP | GADAY, AL WP | *18000 | 45000
* GNSS REQUIRED. |  |  |

From | To | MEA
§ 95.6001 Victor Routes—U.S.
§ 95.6001 VOR Federal Airway V1 Is Amended To Read in Part
CHARLESTON, SC VORTAC | * KIMMY, SC FIX | ** 5000
* 6000—MRA.
** 2000—GNSS MEA.
* KIMMY, SC FIX | INLET, SC FIX | ** 5000
** 6000—MRA.
** 2100—GNSS MEA.
INLET, SC FIX | GRAND STRAND, SC VORTAC
| * NE BND | * 2100
| SW BND | * 5000
*2100—GNSS MEA.
GRAND STRAND, SC VORTAC | ASHES, NC FIX
| NE BND | 5000
| SW BND | 2000
ASHES, NC FIX | YOAST, NC FIX | * 5000
* 2100—MOCA.
YOAST, NC FIX | WALLO, NC FIX | * 7000
* 1700—MOCA.
WALLO, NC FIX | KINSTON, NC VORTAC
| NE BND | #2000
| SW BND | 7000
#SEGMENT UNUSABLE EXCEPT FOR AIRCRAFT EQUIPPED WITH SUITABLE RNAV SYSTEM WITH GPS
KINSTON, NC VORTAC | ZAGGY, NC FIX | # 2000
#SEGMENT UNUSABLE EXCEPT FOR AIRCRAFT EQUIPPED WITH SUITABLE RNAV SYSTEM WITH GPS
§ 95.6013 VOR Federal Airway V13 Is Amended To Read in Part
CORPUS CHRISTI, TX VORTAC | PALACIOS, TX VORTAC | 1700
§ 95.6023 VOR Federal Airway V23 Is Amended To Delete
LATON, CA FIX | CLOVIS, CA VORTAC | 2000
CLOVIS, CA VORTAC | BEREN, CA FIX | 2100
BEREN, CA FIX | WRAPS, CA FIX | * 4000
* 3000—MOCA.
Is Amended To Read in Part
DELNO, CA FIX | PIXEY, CA FIX | * 5000
* 2000—MOCA.
* 3000—GNSS MEA.
PIXEY, CA FIX | LATON, CA FIX | * 6000
* 2000—MOCA.
* 3000—GNSS MEA.
LATON, CA FIX | FRAME, CA FIX | * 6000
* 1900—MOCA.
* 2000—GNSS MEA.
EBTUW, CA FIX | WRAPS, CA FIX | * 4000
* 3000—MOCA.
§ 95.6033 VOR Federal Airway V33 Is Amended To Read in Part
GRAMO, PA FIX | * HARRISBURG, PA VORTAC | ** 7000
* 3600—MCA HARRISBURG, PA VORTAC, NW BND.
* 4600—MCA HARRISBURG, PA VORTAC, SE BND.
** 5000—GNSS MEA.
HARRISBURG, PA VORTAC | * PHILIPSBURG, PA VORTAC | 4900
*4800—MCA PHILIPSBURG, PA VORTAC, SE BND.
§ 95.6037 VOR Federal Airway V37 Is Amended To Read in Part
COLUMBIA, SC VORTAC | RICHE, SC FIX | * 4000
* 2400—MOCA.
* 2400—GNSS MEA.
§ 95.6056 VOR Federal Airway V56 Is Amended To Read in Part
FAYETTEVILLE, NC VOR/DME | * ROZBO, NC FIX.
| E BND | 7000
| W BND | 2000
* 5000—MRA.
* ROZBO, NC FIX | WALLO, NC FIX.
| E BND | 7000
| W BND | 2000
* 5000—MRA.
WALLO, NC FIX | KROVE, NC FIX | * 7000
* 2400—MOCA.
* 3000—GNSS MEA.
KROVE, NC FIX | * NEW BERN, NC VOR/DME
| E BND | ** 2400
| W BND | ** 7000
* 3000—MCA NEW BERN, NC | VOR/DME, W BND.
** 1800—MOCA.
§ 95.6063 VOR Federal Airway V63 Is Amended To Read in Part
WAUSAU, WI VORTAC | RHINELANDER, WI VOR/DME | #
#UNUSABLE
§ 95.6067 VOR Federal Airway V67 Is Amended To Read in Part
CEDAR RAPIDS, IA VOR/DME | * LYERS, IA FIX | 3300
* 4000—MRA.
* LYERS, IA FIX | WATERLOO, IA VOR/DME | 3300
* 4000—MRA.
§ 95.6070 VOR Federal Airway V70 Is Amended To Read in Part
GRAND STRAND, SC VORTAC | WILMINGTON, NC VORTAC | # 3100
#COP NE TO WILMINGTON R-240 UNUSABLE EXCEPT FR AIRCRAFT EQUIPPED WITH SUITABLE RNAV SYSTEM WITH GPS
WILMINGTON, NC VORTAC | BEULA, NC FIX | #* 8000
* 1600—MOCA.
* 2000—GNSS MEA.
# SEGMENT UNUSABLE EXCEPT FOR AIRCRAFT EQUIPPED WITH SUITABLE RNAV SYSTEM WITH GPS
BEULA, NC FIX | * KINSTON, NC VORTAC
| N BND | # 2000
| S BND | 8000
* 4400—MCA KINSTON, NC VORTAC | S BND.
#SEGMENT UNUSABLE EXCEPT FOR AIRCRAFT EQUIPPED WITH SUITABLE RNAV SYSTEM WITH GPS
KINSTON, NC VORTAC | PEARS, NC FIX | # 2500
#SEGMENT UNUSABLE EXCEPT FOR AIRCRAFT EQUIPPED WITH SUITABLE RNAV SYSTEM WITH GPS
§ 95.6115 VOR Federal Airway V115 Is Amended To Delete
FRANKLIN, PA VOR | TIDIOUTE, PA VORTAC | 3800
TIDIOUTE, PA VORTAC | JAMESTOWN, NY VOR/DME | 4000
JAMESTOWN, NY VOR/DME | BUFFALO, NY VOR/DME | 4000
§ 95.6140 VOR Federal Airway V140 Is Amended To Read in Part
SOFTY, WV FIX | CASTE, VA FIX | 6300
§ 95.6170 VOR Federal Airway V170 Is Amended To Read in Part
PETTY, WI FIX | RAINE, MI FIX | #
#UNUSABLE.
RAINE, MI FIX | PULLMAN, MI VOR/DME | #
#UNUSABLE.
PULLMAN, MI VOR/DME | HEBEL, MI FIX | #
#UNUSABLE.
HEBEL, MI FIX | LESSY, MI FIX | #
#UNUSABLE.
§ 95.6184 VOR Federal Airway V184 Is Amended To Delete
ERIE, PA VORTAC | TIDIOUTE, PA VORTAC | 3500
TIDIOUTE, PA VORTAC | PHILIPSBURG, PA VORTAC | * 5000
* 4000—MOCA.
Is Amended To Read in Part
#PHILIPSBURG, PA VORTAC | * HARRISBURG, PA VORTAC | 4900
* 3600—MCA HARRISBURG, PA VORTAC | NW BND
# 4800 MCA PHILIPSBURG, PA VORTAC | SE BND
HARRISBURG, PA VORTAC | * DELRO, PA FIX | 3000
* 10000—MCA DELRO, PA FIX | E BND
§ 95.6188 VOR Federal Airway V188 Is Amended To Delete
TIDIOUTE, PA VORTAC | SLATE RUN, PA VORTAC | 4000
§ 95.6197 VOR Federal Airway V197 Is Amended To Read in Part
PARADISE, CA VORTAC | * POMONA, CA VORTAC | 4500
* 10500—MCA POMONA, CA VORTAC | NW BND
POMONA, CA VORTAC | HASSA, CA FIX
| NW BND | 10500
| SE BND | 6600
§ 95.6213 VOR Federal Airway V213 Is Amended To Read in Part
GRAND STRAND, SC VORTAC | WILMINGTON, NC VORTAC | # 3100
#COP NE TO WILMINGTON R-240 UNUSABLE EXCEPT FOR AIRCRAFT EQUIPPED WITH SUITABLE RNAV SYSTEM WITH GPS.
WILMINGTON, NC VORTAC | WALLO, NC FIX | #* 8000
* 1600—MOCA.
* 5000—GNSS MEA.
# SEGMENT UNUSABLE EXCEPT FOR AIRCRAFT EQUIPPED WITH SUITABLE RNAV SYSTEM WITH GPS.
WALLO, NC FIX | JOSCH, NC FIX | * 6000
* 1700—MOCA
* 2000—GNSS MEA
JOSCH, NC FIX | ESTER, NC FIX | * 6000
* 1700—MOCA
* 2000—GNSS MEA
ESTER, NC FIX | TAR RIVER, NC VORTAC | * 6000
* 2000—GNSS MEA
§ 95.6230 VOR Federal Airway V230 Is Amended To Delete
MENDO, CA FIX | * CLOVIS, CA VORTAC | 2000
*4000—MCA CLOVIS, CA VORTAC | NE BND.
CLOVIS, CA VORTAC | * FRIANT, CA VORTAC | 5000
* 10400—MCA FRIANT, CA VORTAC | NE BND.
Is Amended To Read in Part
PANOCHE, CA VORTAC | MENDO, CA FIX | 4500
MENDO, CA FIX | BLEAR, CA FIX | * 4000
* 1600—MOCA.
BLEAR, CA FIX | * FRIANT, CA VORTAC | ** 5500
* 10400—MCA FRIANT, CA VORTAC | NE BND
** 4700—MOCA.
§ 95.6234 VOR Federal Airway V234 Is Amended To Read in Part
FLACK, KS FIX | KRIER, KS FIX | * 5000
* 4100—MOCA.
§ 95.6258 VOR Federal Airway V258 Is Amended To Read in Part
ROANOKE, VA VOR/DME | PIGGS, VA FIX | 5400
§ 95.6264 VOR Federal Airway V264 Is Amended To Read in Part
AMTRA, CA FIX | * POMONA, CA VORTAC | 4800
* 5600—MCA POMONA, CA VORTAC | E BND.
*MTA V264 E TO V197 NW 11800
§ 95.6265 VOR Federal Airway V265 Is Amended To Read in Part
WESTMINSTER, MD VORTAC | * HARRISBURG, PA VORTAC | 3400
* 3600—MCA HARRISBURG, PA VORTAC | NW BND.
HARRISBURG, PA VORTAC | * PHILIPSBURG, PA VORTAC | 4900
* 4800—MCA PHILIPSBURG, PA VORTAC | SE BND.
§ 95.6311 VOR Federal Airway V311 Is Amended To Read in Part
GREENWOOD, SC VORTAC | COLUMBIA, SC VORTAC | 2400
§ 95.6407 VOR Federal Airway V407 Is Amended To Read in Part
CORPUS CHRISTI, TX VORTAC | PALACIOS, TX VORTAC | 1700
§ 95.6459 VOR Federal Airway V459 Is Amended To Read in Part
EXTRA, CA FIX | FRIANT, CA VORTAC | 5700
§ 95.6472 VOR Federal Airway V472 Is Amended To Read in Part
BERTI, NC FIX | * ZAGGY, NC FIX | ** 7000
* 7000—MCA ZAGGY, NC FIX, NE BND.
** 2100—MOCA.
** 2100—GNSS MEA.
ZAGGY, NC FIX | KINSTON, NC VORTAC | # 2000
# SEGMENT UNUSABLE EXCEPT FOR AIRCRAFT EQUIPPED WITH SUITABLE RNAV SYSTEM WITH GPS.
§ 95.6493 VOR Federal Airway V493 Is Amended To Read in Part
LIVINGSTON, TN VOR/DME | LEXINGTON, KY VOR/DME | 3600
LEXINGTON, KY VOR/DME | BEAER, KY FIX | 3000
§ 95.6542 VOR Federal Airway V542 Is Amended To Delete
TIDIOUTE, PA VORTAC | BRADFORD, PA VOR/DME | * 4000
* 3500—MOCA. |
BRADFORD, PA VOR/DME | EXALL, PA WP | 4500
EXALL, PA WP | ELMIRA, NY VOR/DME | 4000
§ 95.6548 VOR Federal Airway V548 Is Amended To Read in Part
BOSEL, TX FIX | WACO, TX VORTAC.
| N BND | 2800
| S BND | 3600

From | To | MEA | MAA
§ 95.7001 Jet Routes
§ 95.7065 Jet Route J65 Is Amended To Delete
SHAFTER, CA VORTAC | CLOVIS, CA VORTAC | 18000 | 45000
CLOVIS, CA VORTAC | SACRAMENTO, CA VORTAC | 18000 | 45000
§ 95.7110 Jet Route J110 Is Amended To Delete
OAKLAND, CA VOR/DME | SALINAS, CA VORTAC | 18000 | 45000
SALINAS, CA VORTAC | CLOVIS, CA VORTAC | 18000 | 45000
CLOVIS, CA VORTAC | BOULDER CITY, NV VORTAC | # 29000 | 45000
#MEA IS ESTABLISHED WITH A GAP IN NAVIGATION SIGNAL COVERAGE.
§ 95.7147 Jet Route J147 Is Amended To Delete
BECKLEY, WV VOR/DME | GREENBRIER, WV VOR/DME | 18000 | 45000
GREENBRIER, WV VOR/DME | CASANOVA, VA VORTAC | 18000 | 45000

Airway segment: From | Airway segment: To | Changeover points: Distance | Changeover points: From
§ 95.8003 VOR Federal Airway Changeover Point
V23 Is Amended To Delete Changeover Point
SHAFTER, CA VORTAC | CLOVIS, CA VORTAC | 49 | SHAFTER.
CLOVIS, CA VORTAC | LINDEN, CA VOR/DME | 42 | CLOVIS.
V37 Is Amended To Modify Changeover Point
COLUMBIA, SC VORTAC | CHARLOTTE, NC VOR/DME | 26
COLUMBIA.
V67 Is Amended To Add Changeover Point
CEDAR RAPIDS, IA VOR/DME | WATERLOO, IA VOR/DME | 37 | CEDAR RAPIDS.
Alaska V603 Is Amended To Modify Changeover Point
ELFEE, AK NDB | DILLINGHAM, AK VOR/DME | 207 | ELFEE.
§ 95.8005 Jet Routes Changeover Points
J181 Is Amended To Modify Changeover Point
NEOSHO, MO VOR/DME | HALLSVILLE, MO VORTAC | 130 | NEOSHO.

[FR Doc. 2019-19784 Filed 9-11-19; 8:45 am]

BILLING CODE 4910-13-P